ENVIRONMENTAL PROTECTION AGENCY

40 CFR Parts 9, 122, 123, 124, and 125

[FRL-7231-1]

RIN 2040-AD62

Extension of Comment Period for National Pollutant Discharge Elimination System; Regulations Addressing Cooling Water Intake Structures for Phase II Existing Facilities; Proposed Rule

AGENCY: Environmental Protection Agency.

ACTION: Proposed rule; extension of comment period.

SUMMARY: EPA is extending the comment period for the proposed rule addressing cooling water intake structures for Phase II existing facilities. The proposed rule was published in the Federal Register on April 9, 2002 (67 FR 17122). The comment period for the proposed rule is extended by 30 days for a total of 120 days, ending on August 7, 2002.

DATES: Comments on the proposed rule will be accepted through August 7, 2002.

ADDRESSES: Send written comments to: Cooling Water Intake Structure (Existing Facilities) Proposed Rule Comment Clerk-W-00-32, Water Docket, Mail Code 4101, EPA, Ariel Rios Building, 1200 Pennsylvania Ave., NW., Washington, DC 20460. Comments delivered in person (including overnight mail) should be submitted to the Cooling Water Intake Structure (Existing Facilities) Proposed Rule Comment Clerk-W-00-32, Water Docket, Room EB 57, 401 M Street, SW., Washington DC 20460. Please submit any references cited in your comments. Submit an original and three copies of your written comments and enclosures. No facsimiles (faxes) will be accepted. In addition to accepting hard-copy written comments, EPA will also accept comments submitted electronically. Electronic comments must be submitted as a Word Perfect 5/6/7/8 or ASCII file and must be submitted to ow-docket@epa.gov.

FOR FURTHER INFORMATION CONTACT: For additional technical information, contact Debbi D. Hart at (202) 566-6379 or Deborah G. Nagle at (202) 566-1063. For additional economic information, contact Lynne Tudor at (202) 566-1043.

SUPPLEMENTARY INFORMATION: On April 9, 2002, EPA published proposed regulations addressing cooling water intake structures for existing facilities in the Federal Register for public review and comment (67 FR 17122). The proposal provided for a 90-day comment period, which was scheduled to end on July 8, 2002.

EPA received multiple requests from the potentially regulated community to extend the comment period. In most cases, a general extension of 60 days was requested. In one case, a 30-day comment extension was requested for the proposed rule with an additional 30 days required to prepare comments related to the case studies, economic and benefits assessment, and related portions of the proposed rule. These requests argued that an extension of the comment period was necessary because of the large volume of material associated with the proposed rule, including the extensive rulemaking record; the complexity of the proposal and the need for coordination among multidisciplinary areas of expertise (e.g., economic, scientific, engineering, and legal); the inclusion in the proposal of several innovative concepts, such as trading and mitigation through restoration measures, that require time and effort to comprehend and evaluate; difficulty in accessing several electronic documents contained in the rulemaking record; the amount of time needed to copy all written materials in the record for offsite review; difficulty in ascertaining how various aspects of the record support the proposal; and numerous information requests made by EPA within the proposal (i.e., 88 separate requests for comment solicited from the regulated community). Parties requesting an extension argued that the 90-day comment period was insufficient to fully understand the entire content of the proposal, verify data and calculations associated with the proposal (especially impingement and entrainment losses and correlated benefits), and prepare written comments.

In response to these requests, EPA is extending the comment period by 30 days, through August 7, 2002, because of the complexity and the range of issues raised in the proposal. EPA made copies of the proposed rule and preamble available to potentially regulated industries, States, environmental groups, and the public on March 6, 2002, 34 days prior to publication of the proposed rule and preamble in the Federal Register. EPA believes that 120 days is a sufficient period of time for comment on the proposed rule, especially in light of the prepublication availability of the proposed rule and preamble.

Dated: June 7, 2002.
Diane C. Regas,
Acting Assistant Administrator for Water.

[FR Doc. 02-15456 Filed 6-18-02; 8:45 am]

BILLING CODE 6560-50-P